DEPARTMENT OF ENERGY

Western Area Power Administration

2005 Resource Pool

AGENCY: Western Area Power Administration, DOE.

ACTION: Notice of proposed power allocations.

SUMMARY: The Western Area Power Administration (Western), a Federal power marketing administration of DOE, published its 2004 Power Marketing Plan (Marketing Plan) for the Sierra Nevada Customer Service Region (Sierra Nevada Region) in the Federal Register. The Marketing Plan specifies terms and conditions under which Western will market power from the Central Valley Project (CVP) and the Washoe Project beginning January 1, 2005. The Marketing Plan sets aside a portion of the Sierra Nevada Region's marketable power resources to establish a 2005 Resource Pool for new power allocations. Western published a Call for 2005 Resource Pool Applications and a Notice of Extension to file applications in the Federal Register. This notice sets forth Western's proposed allocations of power from the 2005 Resource Pool.

DATES: Entities interested in commenting on proposed allocations must submit written comments to Western's Sierra Nevada Customer Service Regional Office at the address below. Western must receive written comments by 4 p.m., PDT, on July 5, 2000. Entities are encouraged to hand-deliver or use certified or electronic mail for delivery of comments. Western will accept comments received via regular mail through the United States Postal Service if postmarked at least 3 days before July 5, 2000, and received no later than July 10, 2000. Western will not consider comments that are received after the prescribed date and time. Western will publish a Notice of Final 2005 Resource Pool Allocations in the Federal Register after evaluating all comments.

ADDRESSES: Written comments should be sent to Howard Hirahara, Power Marketing Manager, Western Area Power Administration, Sierra Nevada Customer Service Region, 114 Parkshore Drive, Folsom, CA 95630-4710, or by electronic mail to hirahara@wapa.gov.

FOR FURTHER INFORMATION CONTACT: Howard Hirahara, Power Marketing Manager, (916) 353-4421, or by electronic mail at hirahara@wapa.gov.

SUPPLEMENTARY INFORMATION:

Authorities

Pursuant to its authorities under the Department of Energy Organization Act (42 U.S.C. 7101-7352); the Reclamation Act of June 17, 1902 (ch. 1093, 32 Stat. 388) as amended and supplemented by subsequent enactments, particularly section 9(c) of the Reclamation Project Act of 1939 (43 U.S.C. 485(c)); and other acts specifically applicable to the projects involved, Western established the Marketing Plan for sale of power by the Sierra Nevada Region after 2004. On June 25, 1999, Western published the Marketing Plan in the Federal Register (64 FR 34417). Pursuant to Western's authorities under the above acts and applying the rules developed in the Marketing Plan, with this notice, Western sets forth and seeks comments on its proposed allocations of power from the 2005 Resource Pool.

Regulatory Procedural Requirements

Western addressed the regulatory procedure requirements in its rulemaking for the Marketing Plan (64 FR 34417). The proposed allocation of power in this notice is an application of the Marketing Plan and is not a separate rulemaking.

Background

On October 19, 1999, Western published the Call for 2005 Resource Pool Applications in the Federal Register (64 FR 56343). On December 9, 1999, Western published a Notice of Extension in the Federal Register (64 FR 69018). The Call for 2005 Resource Pool Applications required that applications be submitted by December 20, 1999, and the Notice of Extension extended the filing date by 30 days to January 19, 2000.

CVP power facilities are operated by the United States Department of the Interior, Bureau of Reclamation (Reclamation), and include 11 powerplants with a maximum operating capability of about 2,044 megawatts (MW), and an estimated average annual generation of 4.6 million megawatthours (MWh). Western markets and transmits power available from the CVP.

The Washoe Project's Stampede Powerplant is also operated by Reclamation and has a maximum operating capability of 3.65 MW with an estimated annual generation of 10,000 MWh. The Sierra Pacific Power Company owns and operates the only transmission system available for access to the Stampede Powerplant.

Western owns the 94 circuit-mile Malin-Round Mountain 500-kilovolt (kV) transmission line (an integral section of the Pacific Northwest-Pacific Southwest Intertie), 803 circuit miles of 230-kV transmission line, 7 circuit miles of 115-kV transmission line, and 44 circuit miles of 69-kV and below transmission line. Western also has part ownership in the 342-mile California-Oregon Transmission Project. Many of Western's existing customers have no direct access to Western's transmission lines and receive service over transmission lines owned by other utilities.

The Marketing Plan describes how the Sierra Nevada Region will market its power resources beginning January 1, 2005, through December 31, 2024. Western proposes to allocate portions of the 2005 Resource Pool to applicants meeting the eligibility criteria listed in the Marketing Plan. Once the 2005 Resource Pool allocations have been finalized, Western will offer contracts to allottees for a percentage of the Base Resource. If requested, Western will work with customers to develop a customized product to meet their needs, as more fully described in the Marketing Plan. Western will also establish a 2015 Resource Pool for new allocations under a separate public process.

Proposed 2005 Resource Pool Allocations

Under the Marketing Plan, a two-step process was undertaken by Western in determining proposed power allocations. First, Western determined which applicants met the eligibility criteria. Next, Western used the allocation criteria to determine allocation amounts. Western used its discretion to determine which eligible entities received a proposed allocation and the amount of the proposed allocation. Western received 34 applications for 442.861 MW of power from entities who are not currently customers and 24 applications for 610.761 MW of power from existing customers. Western's Base Resource is a variable amount based on actual generation that is surplus to project needs. Therefore, allocations are expressed as a percentage of the marketable resource. Megawatt amounts are given, assuming variable amounts of Base Resource, for illustrative proposes only.

The proposed 2005 Resource Pool allocations are preliminary and may be changed based on comments received. This notice formally requests comments related to the proposed allocations. Western will respond to comments received on the proposed allocations and publish its final 2005 Resource Pool allocations after the end of the public comment period.

Proposed allottees to receive power from the 2005 Resource Pool, allocations expressed as percentages of the Base Resource, and the megawatt amount of each allocation assuming a Base Resource of 500 MW, 1000 MW, and 1500 MW are as follows:

Proposed allottees | Percent | Base resource: 500 MW (MW) | Base resource: 1000 MW (MW) | Base resource: 1500 MW (MW)
Bay Area Rapid Transit District | 0.147 | 0.735 | 1.470 | 2.205
California State Universities (11 campuses) | 0.221 | 1.100 | 52.210 | 3.315
California State University, Sacramento | 0.092 | 0.460 | 0.920 | 1.380
Cawelo Water District | 0.029 | 0.145 | 0.290 | 0.435
Coyote Valley Tribe of Pomo Indians | 0.055 | 0.275 | 0.550 | 0.825
East Bay Municipal Utility District | 0.054 | 0.270 | 0.540 | 0.810
Fallon, City of | 0.221 | 1.105 | 2.210 | 3.315
Healdsburg, City of | 0.087 | 0.435 | 0.870 | 1.305
Lassen Municipal Utility District | 0.105 | 0.525 | 1.050 | 1.575
Lodi, City of | 0.147 | 0.735 | 1.470 | 2.205
Lompoc, City of | 0.120 | 0.600 | 1.200 | 1.800
Modesto Irrigation District | 0.147 | 0.735 | 1.470 | 2.205
Placer County Water Agency | 0.039 | 0.195 | 0.390 | 0.585
Reclamation District No. 108 | 0.043 | 0.215 | 0.430 | 0.645
Redding Rancheria | 0.037 | 0.185 | 0.370 | 0.555
San Francisco, City and County of | 0.147 | 0.735 | 1.470 | 2.205
Sonoma County Water Agency | 0.028 | 0.140 | 0.280 | 0.420
Southern San Joaquin Municipal Utility District | 0.037 | 0.185 | 0.370 | 0.555
Susanville Indian Rancheria | 0.103 | 0.515 | 1.030 | 1.545
Table Mountain Rancheria | 0.147 | 0.735 | 1.470 | 2.205
Truckee Donner Public Utility District | 0.220 | 1.100 | 2.200 | 3.300
Turlock Irrigation District | 0.128 | 0.640 | 1.280 | 1.920
University of California, Berkeley | 0.221 | 1.105 | 2.210 | 3.315
University of California, San Francisco | 0.175 | 0.875 | 1.750 | 2.625
Total | 2.750 | 13.75 | 27.500 | 41.250

Contracting Process

Pursuant to the Marketing Plan, Western will begin the contracting process with allottees after publishing the final allocations in the Federal Register. Publication is tentatively scheduled for the summer of 2000. Allottees must execute an electric service contract to purchase the Base Resource no later than December 31, 2000, and the Custom Product, if desired, no later than December 31, 2002, unless otherwise agreed to in writing by Western. Electric service contracts will be effective upon execution by Western, and service will begin on January 1, 2005.

Dated: May 23, 2000.
Michael S. Hacskaylo,
Administrator.

[FR Doc. 00-13967 Filed 6-2-00; 8:45 am]

BILLING CODE 6450-01-U